DEPARTMENT OF TRANSPORTATION

Coast Guard

33 CFR Parts 26, 161, and 165

[USCG-1998-4399]

RIN 2115-AF75

Vessel Traffic Service Lower Mississippi River

AGENCY: Coast Guard, DOT.

ACTION: Notice of proposed rulemaking.

SUMMARY: The Coast Guard proposes to establish a Vessel Traffic Service (VTS) on the Lower Mississippi River and transfer certain vessel traffic management provisions of the Mississippi River, LA—Regulated Navigation Area to the VTS. The Coast Guard would implement the proposed transition to VTS in a phased manner which would allow for the orderly transition from existing regulations and practices to operating procedures appropriate to an Automatic Identification System (AIS)-based VTS. This proposed rule would facilitate vessel transits, enhance good order, promote safe navigation, and improve upon existing operating measures on the waterway. In addition to establishing a VTS, minor revisions to the existing vessel traffic management provisions, and related regulations are proposed.

DATES: Comments and related material must reach the Docket Management Facility on or before July 25, 2000.

ADDRESSES: To make sure your comments and related material are not entered more than once in the docket, please submit them by only one of the following means:

(1) By mail to the Docket Management Facility (USCG-1998-4399), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet ­at http://dms.dot.gov.

FOR FURTHER INFORMATION CONTACT: For questions on this proposed rule, contact Mr. Jorge Arroyo, Office of Vessel Traffic Management (G-MWV), Coast Guard, telephone 202-267-6277, or via email at jarroyo@comdt.uscg.mil. For questions on viewing or submitting material to the docket, call Dorothy Walker, Chief, Dockets, Department of Transportation, telephone 202-366-9329.

SUPPLEMENTARY INFORMATION:

Request for Comments

We encourage you to participate in this rulemaking by submitting comments and related material. If you do so, please include your name and address, identify the docket number for this rulemaking (USCG-1998-4399), indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. We may change this proposed rule in view of them.

Public Meeting

The Coast Guard held a public meeting on October 28, 1998, in New Orleans, LA. The meeting was announced in a notice published in the Federal Register on September 18, 1998 (63 FR 49939). This meeting gave the Coast Guard the opportunity to discuss the Vessel Traffic Service (VTS) concept and the envisioned impact of Automatic Identification System (AIS) technology to the VTS program. It also was an opportunity to report the preliminary results of AIS tests conducted on the Lower Mississippi River. Further efforts in AIS and their impact on the proposed VTS are not discussed in depth in this proposal. However, AIS requirements will be subject of a forthcoming rulemaking.

In addition, the Coast Guard has discussed the VTS concept at various Lower Mississippi River Waterways Safety Advisory Committee (LMRWSAC) meetings. LMRWSAC is a Federally chartered advisory committee, chaired by the Eighth Coast Guard District Commander and charged with making recommendations to the Coast Guard on matters relating to the transit of vessels and products on the Lower Mississippi River. These open-forums have afforded the public the opportunity to comment on both VTS and AIS issues. Their input has and will be taken into account prior to the final rulemaking.

The Coast Guard is still considering whether or not to have another public meeting on this issue. We would like your comments on the reasons why another meeting would be beneficial. Send your comments requesting a public meeting to the Docket Management Facility at the address under ADDRESSES. If we determine that another public meeting would aid this rulemaking, we will hold one at a time and place announced by a later notice in the Federal Register.

Background and Purpose

This proposed rule would amend vessel traffic measures within the Mississippi River Regulated Navigation Area and would create a VTS that will serve the Lower Mississippi River. The purpose of this rulemaking is to update certain operating practices, adopt standard traffic management procedures, and to inform the mariner of certain services provided by a Coast Guard Vessel Traffic Service.

1. Vessel Traffic Services

The Coast Guard operates eight VTSs in the United States. A VTS provides pertinent navigation and safety information for mariners to make informed decisions during their voyage. The Coast Guard has operated variations of a VTS in New Orleans in the past. The efforts have been plagued by budgetary constraints, the limitations of voluntary participation, and the temporary or part-time nature of the VTS operation. Since the last VTS New Orleans in the 1980s, the Coast Guard, as directed by the Oil Pollution Act of 1990, has:

(1) Validated the need for a VTS in certain ports;

(2) Made participation mandatory in all VTS ports; and

(3) Invested in infrastructure improvement to VTS equipment and standardized operating procedures across all United States VTSs.

The Coast Guard has long recognized the potential benefits of a properly constituted VTS on the Lower Mississippi River and the Algiers Point/Crescent area in particular. Additionally, the Congress has expressed its desire that the Lower Mississippi River receive a “state-of-the-art” VTS (Congressional Record, H10398, September 16, 1996).

A federally operated and locally adopted vessel traffic management facility has been in place in the New Orleans Harbor since the 1930s. In an effort to assist the mariner, safeguard the port, ensure good order, and improve safety, the Algiers Point Control Lights were implemented. This system has evolved from one that was operated by local river pilots who stood watch using lanterns and whistle signals to communicate when the Algiers Point was clear for traffic, to a 24 hour federally-staffed communication station with twin control light towers (at Governor Nicholls Street Wharf and Gretna). Although, not formally recognized as a VTS, it has provided longstanding traffic management services from its inception.

The Algiers Point/Crescent area is currently subject to regulatory provisions established in Title 33 CFR 165.810(c). The current regulations have been in place, unmodified, for years, and reflect old practices that have long been abandoned by both the Coast Guard and mariners. In the intervening years since these outmoded procedures were put in place, newer procedures, better suited to improved technology (VHF voice radiotelephone in particular), and changing river conditions have entered into general use. The procedures and practices proposed for codification in this rule are essentially the same as those currently in use at the Algiers Point/Crescent area at this time.

The primary objective of the existing regulatory system is to provide for orderly traffic flow around Algiers Point. Mandatory vessel traffic measures, represented by the light signals, are in place to lessen the potential for mishap during periods of high water. Algiers Point is one of the most challenging bends to safely navigate on the Mississippi River, particularly in high water conditions. Vessels must negotiate a 120 degree bend in the river amidst constantly changing hydrographic conditions, congested waters, and various bridges and piers in one of the busiest industrial harbors in the world. The consequences of improper navigation in this segment of the river are both significant and well documented. Since 1991, there have been over 350 reportable marine casualties within this area. The failure to safely transit this area can quickly lead to a mishap causing substantial property damage, serious environmental and economic consequences, or loss of life.

The Coast Guard and local mariners recognize that this segment of the waterway warrants great vigilance. The nature of vessel traffic within this segment, and the anticipated increase in traffic, requires certain vessel traffic measures be in place at all times, or at least available at a moments notice. These measures can only be assured by operating a Vessel Traffic Center (VTC) within the framework of a VTS. A VTC is a shore-side facility that operates within a VTS and has the capability to interact with marine traffic and respond to situations that develop. The existing Control Light operation in the Lower Mississippi River and around Algiers Point has proven itself valuable in some measures of vessel traffic management. However, these measures are narrow in scope, limited to this area, and only operate during high water periods. Limitations of equipment, staffing, and site location hamper the light operator's ability to provide for the overall safety and efficiency of anticipated vessel traffic beyond the immediate vicinity of Algiers Point. The Coast Guard intends to enhance system capabilities in order to improve navigation at Algiers Point and on the entire Lower Mississippi River through implementation of a 24-hour VTS.

2. Stakeholder Involvement

The Coast Guard has long recognized that a VTS on the Lower Mississippi River would be a valuable asset to all stakeholders. A stakeholder is any entity that may be impacted by the waterway either directly or indirectly. In addition, many stakeholders have pointed out that to achieve success, the next VTS must meet the needs of the users while imposing the least amount of burden, especially in terms of VHF voice radio communications. In 1997, the Coast Guard formed the Ports and Waterways Safety Systems Committee (PWSSC). This ad-hoc committee, under LMRWSAC, of maritime, port community, government, and public stakeholders, was created to define user requirements for a VTS that would accomplish the joint overall goals of safety and efficiency. Since its formation, PWSSC has met several times, and the product of these meetings was a conceptual baseline VTS plan (see U.S. Coast Guard Docket USCG-1998-4399-3 at http://dms.dot.gov), endorsed by LMRWSAC. One key aspect of this plan was the need to implement AIS technology, and to incorporate AIS as a key component of future VTS implementation.

3. Automatic Identification System Concept

AIS technology relies upon global navigational positioning systems, navigation sensors, and digital communication equipment operating according to standardized protocols (i.e., AIS transponders) that permit the voiceless exchange of navigation information between vessels and shore-side vessel traffic centers. AIS transponders on vessels can broadcast information about the vessel, such as its name or call sign, dimensions, type, position (derived from a global navigation system), course, speed, and navigation status. This information is continually updated and received by all AIS-equipped vessels in its vicinity. An AIS-based VTS would be able to augment this broadcast with additional safety and navigation information such as weather, tides, currents, and status of navigational aids. This additional information could be relayed to all VTS users for their consideration in voyage planning and execution. The advantage of this automatic exchange of information is that it can be accessed by all, tailored to the mariners needs and desires, and greatly reduce voice radio exchanges. The ease of operation of the VTS and the reduction of voice interactions should greatly enhance mariners' ability to navigate, improve their situational awareness, and assist them in the performance of their duties; thus reducing the risk of collisions.

The Coast Guard recognizes the importance of AIS and has led the way on various international fronts for acceptance and adoption of this technology. Through its national representation role in the International Maritime Organization (IMO), International Telecommunications Union (ITU), and participation in various other international working groups, including groups within the International Electrocommunications Commission (IEC), the Coast Guard has been a leader in the drafting and/or adoption of various technical standards (e.g., ITU-R M.1371, IEC 61993-2). This should ensure the universal inter-operability of each AIS unit. The Coast Guard permits certain variations of AIS in VTS Prince William Sound (see 33 CFR 164.43), and has conducted or participated in extensive operational tests of several Universal AIS precursors. However, the most comprehensive test bed has been on the Lower Mississippi River. Through recent testing, and based on feedback received from test participants and other stakeholders in the area, the Coast Guard proposes the establishment of a VTS on the Lower Mississippi River, which will eventually incorporate full use of Universal AIS technology.

Thus, this rulemaking proposes the creation of the Vessel Traffic Service Lower Mississippi River (VTS LMR). This effort is part of a comprehensive safety improvement initiative being implemented by the Coast Guard in consultation with various stakeholders in the area, including LMRWSAC. The Coast Guard began the initial phase of this initiative with a capitalization program that will provide New Orleans and the mariners of the Lower Mississippi River with additional Coast Guard personnel and a modernized VTC on One Canal Place, in New Orleans, LA. From this VTC, the Coast Guard has the capability to monitor the movement of VTS users and provide navigation services to all requesting mariners that will help them plan their transits of the Lower Mississippi River. Initially, the Coast Guard intends to hire and train additional personnel and conduct concurrent operations from both the VTC and Control Light Towers. During these concurrent operations (e.g., shadow operations), the Control Light functions will be transitioned gradually to the VTC. During the initial period, light operators will conduct the actual watch from the Control Light Towers while other watchstanders will simultaneously monitor vessel traffic at Algier Point (shadow operations) from the VTC. Over time, these roles will reverse with the intended final stage being a gradual phase-out of manning the Control Light Towers. These shadow operations will last for as long as it takes the VTC to operate as seamlessly and effectively as it's predecessor, Control Light operations. The objective in this shadow operations and transition period will be to verify that the light operator function can be successfully performed from the VTC as a first step in shifting from the current situation to the future AIS-based VTS. The changes under the shadow operations and through transition from the current towers to the VTC should be transparent to the mariner transiting the Algiers Point/Crescent area. This is in keeping with the expressed desire of waterway users, voiced through the LMRWSAC, that this section of river continues to receive the highest level of scrutiny and navigational assistance/control. The Coast Guard estimates this transition will take approximately 12 months. Since the bend at Algiers Point remains an area of great concern, and warrants extra precaution, we also propose that the segment of the river between 93.5 and 95 miles Above Head of Passes be designated a VTS Special Area, and that provisions formerly set forth in 33 CFR 165.810(c) continue to apply in periods of high water.

The Coast Guard proposes to have the area of operation of VTS LMR eventually extend from 20 miles above Baton Rouge to the outer limit of the 12 mile territorial sea boundary. However, it recognizes and accepts that mariners would be unable to comply with reporting requirements set forth in the National VTS regulations until AIS transponder carriage requirements become mandatory. Although VTS LMR will not be able to accept movement reports or provide vessel movement information until AIS transponders become mandatory, it could still provide a host of services to the mariner throughout the proposed Vessel Traffic Service Area (VTSA) in the interim, such as information on navigational aids outages, potential hazardous circumstances, and weather conditions. The Coast Guard would provide full VTS services throughout the entire VTSA once universal AIS carriage becomes mandated. A future Coast Guard rulemaking will address proposed AIS carriage requirements and their impact on VTS operations nationwide. In the meantime, the Coast Guard has an adequate infrastructure of radar, cameras, communications, integrated navigational displays, and computers to provide all VTS services and capabilities in those waters within the VTS Special Area outlined in the proposed regulation. In this segment of the river, the Coast Guard proposes requiring that VTS users meet the provisions of the Vessel Movement Reporting System (VMRS) found in 33 CFR part 161.

Discussion of Proposed Rule

This rule proposes revising regulations in 33 CFR parts 26, 161, and 165 as follows:

Section 26.03 Radiotelephone Required

The Coast Guard proposes removing Table § 26.03(F) to avoid duplication and possible confusion to the mariner. Instead, § 26.03 would direct the reader to Table § 161.12(B) in 33 CFR 161.12 for the appropriate VTS monitoring requirements.

Section 161.2 Definitions

The Coast Guard proposes clarifying the term “Hazardous Vessel Operating Condition” to make it clear that in addition to equipment and manning shortcomings, any vessel condition that “may affect the positive control or safe handling” of a vessel, and towing vessels in particular, is deemed a “hazardous vessel operating condition.”

Section 161.65 Vessel Traffic Service Lower Mississippi River

The Coast Guard proposes adding a new entry that would describe the Lower Mississippi River VTS area and the Algiers Point VTS Special Area. The VTS area would extend from 20 miles north of Baton Rouge to the outer limit of the territorial sea seaward of Southwest Pass. The VTS Special Area would consist of those waters of the Lower Mississippi River 93.5 and 95 miles Above Head of Passes. In addition to the special operating requirements already in place in part 161, additional requirements and instructions would be added to mirror the existing Control Light operations.

Also, we clarify that not all VTS services nor vessel movement reporting requirements would be in effect in the VTSA until AIS carriage requirements become mandatory. The Coast Guard will await standardization and availability of AIS equipment before requiring vessel movement reports throughout the entirety of the VTS area. Reporting points for the Algiers Point VTS Special Area are added, and will be in effect during periods of high water.

Another clarifying note has been added to define the term navigable water as denoted in the description of the VTS Lower Mississippi River. The VTS boundary would extend to the 12 nautical mile territorial sea in section 102 of the Ports and Waterways Safety Act (33 U.S.C. 1222), as added by section 301 of the Coast Guard Authorization Act of 1998, and Presidential Proclamation 5928.

Section 165.810 Mississippi River, LA-Regulated Navigation Area

In paragraph (c), the Coast Guard will amend the existing Mississippi River, LA-Regulated Navigation Area (RNA) to remove the provisions on Control Lights. The core of these provisions would be added to the special operating requirements of the Algiers Point VTS Special Area in § 161.65.

Regulatory Evaluation

This proposed rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this proposed rule to be so minimal that a full Regulatory Evaluation under paragraph 10(e) of the regulatory policies and procedures of DOT is unnecessary. Since vessels presently follow the rules outlined in this proposal, the Coast Guard believes that this proposal, if adopted, would only have a minimal economic impact.

Small Entities

Under the Regulatory Flexibility Act (5 U.S.C. 601-612), the Coast Guard considered whether this proposed rule would have a significant economic impact on a substantial number of small entities. The term “small entities” comprises small businesses, not-for-profit organizations that are independently owned and operated and are not dominant in their fields, and governmental jurisdictions with populations of less than 50,000.

Small entities were represented on the Ports and Waterways Safety System Committee (PWSSC), and were invited to participate in the Public Meeting held on October 28, 1998, in New Orleans. Both the PWSSC and the public meeting are discussed elsewhere in this preamble. Small entities, through their participation, have assisted in the developed user requirements for a VTS in the Lower Mississippi River area.

Additionally, vessels are presently following the rules outlined in this proposal, thus the adoption of these rules would not have a significant impact on a substantial number of small entities.

Therefore, the Coast Guard certifies under 5 U.S.C. 605(b) that this proposed rule would not have a significant economic impact on a substantial number of small entities. If you believe that your business, organization, or governmental jurisdiction qualifies as a small entity and that this rule would have a significant economic impact on it, please submit a comment to the Docket Management Facility at the address under ADDRESSES. In your comment, explain why you think it qualifies, and how and to what degree this rule would economically affect it.

Collection of Information

This proposed rule would call for no new collection of information under the Paperwork Reduction Act of 1995 (44 U.S.C. 3501-3520).

Federalism

Title I of the Ports and Waterways Safety Act (33 U.S.C. 1221 et. seq.) (PWSA) authorizes the Secretary to promulgate regulations to establish and maintain vessel traffic services consisting of measures for controlling or supervising vessel traffic to protect the marine environment. In enacting PWSA in 1972, Congress found that advance planning and consultation with the affected States and other stakeholders was necessary in the development and implementation of a VTS. The Coast Guard throughout the history of the development of the VTS on the Lower Mississippi River has consulted with the State of Louisiana, the affected state and federal pilot's associations, vessel operators, users, and all affected stakeholders. An example of stakeholder consultation is the PWSSC, which was formed in 1997. This ad-hoc committee of maritime, port community, and public stakeholders has met several times, and the product of these meetings was a conceptual baseline VTS plan (see U.S. Coast Guard Docket USCG-1998-4399-3 at http://dms.dot.gov). The State was an active participant of PWSSC meetings and contributed to this plan. The Coast Guard will continue to consult with all involved as the final rule is developed and implemented.

Presently, there are no Louisiana State laws or regulations concerning the same subjects as are contained in the rules proposed. Throughout the consultations, the State of Louisiana and the Coast Guard have worked closely in developing these proposed regulations. We understand that no State law or regulation on the subject of these proposed rules is contemplated. The rules for operation and equipment required on vessels proposed in this rulemaking would preempt any State laws or regulations that may be enacted on the same subject matter and having the same purpose as this proposed rule under the principles announced by the U.S. Supreme Court in United States v. Locke,—U.S.—No. 98-1701 (March 6, 2000) and Ray v. Atlantic Richfield Co., 435 U.S. 151 (1978).

We will continue to consult with the State of Louisiana, the Governor's Task Force on Maritime Industry representative, as well as all affected stakeholders as this proposed rule progresses, and during its implementation as a final rule. Their concerns will continue to be received, considered, and addressed in a spirit of cooperation to ensure that the waters of the Lower Mississippi River affected by this proposed rule are made safer and more environmentally secure.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

The Coast Guard has analyzed this proposed rule under E.O. 13045, Protection of Children from Environmental Health Risks and Safety Risks. This rule is not an economically significant rule, and does not concern an environmental risk to health or risk to safety that may disproportionately affect children.

Environment

The Coast Guard considered the environmental impact of this proposed rule and concluded that under figure 2-1, paragraphs 34(g) and (i) Commandant Instruction M16475.1C (for Regulated Navigation Areas and VTS respectively), this proposed rule is categorically excluded from further environmental documentation. A “Categorical Exclusion Determination” is available in the docket for inspection or copying where indicated under ADDRESSES.

List of Subjects

33 CFR Part 26

Communications equipment, Marine safety, Radio, Telephone, Vessels.

33 CFR Part 161

Harbors, Navigation (water), Reporting and recordkeeping requirements, Vessels, Waterways.

33 CFR Part 165

Harbors, Navigation (water), Reporting and recordkeeping requirements, Vessels, Waterways.

For the reasons discussed in the preamble, the Coast Guard proposes to amend 33 CFR parts 26, 161, and 165 as follows:

PART 26—VESSEL BRIDGE-TO-BRIDGE RADIOTELEPHONE REGULATIONS

1. The authority citation for part 26 continues to read as follows:

Authority: 14 U.S.C. 2; 33 U.S.C. 1201-1208; 49 CFR 1.45(b), 1.46; Rule 1, International Regulations for the Prevention of Collisions at Sea.

2. In § 26.03, remove Table 26.03(F) and revise paragraph (f) to read as follows:

§ 26.03 Radiotelephone required.

* * * * *

(f) In addition to the radiotelephone required by paragraph (b) of this section, each vessel described in paragraph (a) of this section while transiting any waters within a Vessel Traffic Service Area, must have on board a radiotelephone capable of transmitting and receiving on the VTS designated frequency in Table 161.12(B)—Vessel Traffic Services (VTS) Call Signs, Designated Frequencies, and Monitoring Areas, found in 33 CFR 161.12.

* * * * *

PART 161—VESSEL TRAFFIC MANAGEMENT

3. The authority citation for part 161 continues to read as follows:

Authority: 33 U.S.C. 1231; 33 U.S.C. 1223; 49 CFR 1.46.

4. In § 161.2 amend the definition of “Hazardous Vessel Operating Condition” by revising the introductory text and paragraph (3) to read as follows:

§ 161.2 Definitions.

* * * * *

Hazardous Vessel Operating Condition means any condition related to a vessel's ability to safely navigate or maneuver, and includes, but is not limited to:

* * * * *

(3) Vessel characteristics that affect or restrict maneuverability, such as cargo or tow arrangement, trim, loaded condition, underkeel or overhead clearance, speed capabilities, power availability or similar characteristics which may affect the positive control or safe handling of the vessel or the tow.

* * * * *

5. In § 161.12 amend Table 161.12(B) by adding the following entry to the end of the table as well as footnotes 8 and 9:

§ 161.12 Vessel operating requirements.

* * * * *

Table 161.12(B).—Vessel Traffic Services (VTS) Call Signs, Designated Frequencies, and Monitoring Areas
Vessel traffic service call sign | Designated ¹ frequency (channel designation) | Monitoring area
* * * * * * *
Lower Mississippi River: ⁸
New Orleans Traffic | 156.700 MHz (Ch.14) | The navigable waters ⁹ of the Lower Mississippi River below 30° 38.7′ N 91° 17.5′ N (Port Hudson Light at 255 miles Above Head of Passes (AHP)), the Southwest Pass, and, within a 12 nautical miles radius around 28° 54.3′ N 89° 25.7′ N (Southwest Pass Entrance Light at 19.9 miles Below Head of Passes).
| 156.600 MHz (Ch.12) | New Orleans Sector. The navigable waters of the Lower Mississippi River bounded on the north by a line drawn perpendicularly at 29° 56.4′ N 90° 08.36′ W and on the south by a line drawn perpendicularly at 29° 56.24′ N 89° 59.86′ W (88 and 106 miles AHP)
* * * * * * *
⁸ Until July 1, 2002 and unless otherwise directed, VTS users outside of the New Orleans Sector are exempted of all VMRS requirements (33 CFR 161, Subpart B). As a result, only limited VTS services are available throughout the entire monitoring area. In particular the services denoted in 33 CFR 161.10(c), (f), and (g) will not be available.
⁹ ‘Navigable waters’ includes all of the territorial sea of the United States as described in Presidential Proclamation No. 5928 of December 27, 1988, which states, “The territorial sea of the United States henceforth extends to 12 nautical miles from the baselines of the United States determined in accordance with international law.”

* * * * *

6. Add § 161.65 and Table 161.65(D) to read as follows:

§ 161.65 Vessel Traffic Service Lower Mississippi River.

(a) The VTS area consists of navigable waters of the Lower Mississippi River below 30° 38.7′ N 91° 17.5′ W [Port Hudson Light at 255 miles Above Head of Passes (AHP)], the Southwest Pass, and those within a 12 nautical mile radius around 28° 54.3′ N 89° 25.7′ W (Southwest Pass Entrance Light at 19.9 miles Below Head of Passes).

(b) The Algiers Point VTS Special Area consists of the navigable waters of the Lower Mississippi River bounded on the north by a line drawn from 29° 57.62′ N 90° 02.61′ W to 29° 57.34′ N 90° 02.60′ W, and, on the south by a line drawn from 29° 56.89′ N 90° 03.72′ W to 29° 56.93′ N 90° 03.34′ W (95 and 93.5 miles AHP) during periods of high water; that is when the Carrolton Gage reads 8.0 feet or above on a rising stage or 9.0 feet or above on a falling stage, or under any other water conditions the Captain of the Port (COTP) deems necessary.

(c) Additional VTS Special Area Operating Requirements. The following additional requirements are applicable in the Algiers Point VTS Special Area:

(1) A VMRS User must abide by the signals of the Governor Nicholls, 29° 57.6′ N 90° 03.4′ W, and Gretna, 29° 55.5′ N 90° 03.7′ W, Control Lights (94.3 and 96.6 miles AHP, respectively) in the following manner:

(i) Green Light—May proceed as intended.

(ii) Red Light—Do not proceed, unless otherwise directed by the VTC.

(iii) No Light—Do not proceed, immediately notify VTC and await further directions.

Note: To provide advance notification to downbound vessels, a traffic repeater signal of Gretna Light is located at Westwego, LA, 29° 54.8′ N 90° 08.3′ W, (101.4 miles AHP).

(2) A vessel awaiting a signal change or VTC directions shall keep clear of other vessels transiting the area.

(d) Reporting Points.

Table 161.65(D).—VTS Lower Mississippi River Reporting Points
Designator | Geographic name | Geographic description | Latitude/longitude/mile marker | Notes
A | Chalmette Slip | 90.4 AHP | 29 56.2′ N; 90 59.86′ W | Towing vessels exempted.
B | Industrial Canal | 92.7 AHP | 29 57.2′ N; 90 01.68′ W
C | Crescent Towing Smith Fleet | 93.5 AHP | 29 57.50′ N; 90 02.62′ W | Towing vessels only.
D | Marlex Terminal (Naval Ships) | 99.0 AHP | 29 54.65′ N; 90 05.87′ W
E | Cargill Grain Elevator, Westwego | 103.1 AHP | 29 56.24′ N; 90 08.3′ W

PART 165—NAVIGATION SAFETY REGULATIONS

7. The authority citation for part 165 continues to read as follows:

Authority: 33 U.S.C. 1231; 50 U.S.C. 191, 33 CFR 1.05-1(g), 6.04-1, 6.04-6, 160.5; 49 CFR 1.46.

§ 165.810 [Amended]

8. Amend § 165.810 by: a. Removing paragraph (c) and redesignate paragraphs (d), (e), and (f) as (c), (d), and (e) respectively; and

b. Adding a note at the end of the section to read as follows:

§ 165.810 Mississippi River, LA-regulated navigation area.

* * * * *

Note: Control Light provisions (previously referenced in this section) used to manage vessel traffic during periods of high waters in the vicinity of Algiers Point are found in 33 CFR 161.65(c).

Dated: April 19, 2000.
J.P. High,
Acting Assistant Commandant for Marine Safety and Environmental Protection.

[FR Doc. 00-10298 Filed 4-25-00; 8:45 am]

BILLING CODE 4910-15-P